POSTAL RATE COMMISSION

Commission Briefing

AGENCY: Postal Rate Commission.

ACTION: Notice of commission briefing.

SUMMARY: The Commission's Office of the Consumer Advocate will host a briefing on two federal laws relating to electronic signatures: the Uniform Electronic Transactions Act and the Electronic Signature in Global and National Commerce Act. Mr. R. David Whitaker will give the briefing.

DATES: Thursday, May 24, 2001, at 10:30 a.m.

ADDRESSES: The briefing will be held in the Postal Rate Commission's hearing room, 1333 H St. NW., Suite 300, Washington, DC 20268-0001.

FOR MORE INFORMATION CONTACT: Stephen L.Sharfman, General Counsel, 202-789-6820.

Authority: 39 CFR 3002.7(a).

Dated: April 30, 2001.
Steven W. Williams,
Acting Secretary.

[FR Doc. 01-11200 Filed 5-3-01; 8:45 am]

BILLING CODE 7710-FW-M